DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning FEMA's National Emergency Training Center (NETC) to approve and coordinate the use of the NETC facility for extracurricular training activities.

SUPPLEMENTARY INFORMATION: The National Emergency Training Center (NETC) is a FEMA facility that houses the Emergency Management Institute (EMI) and the National Fire Academy (NFA). NETC provides training and educational programs for Federal, State, and local personnel in hazard mitigation, emergency response and preparedness, fire prevention and control, disaster response, and long-term disaster recovery. Special groups sponsored by EMI, NFA or other FEMA organizations may use NETC facilities to conduct activities closely related to and in direct support of their activities. Such groups include other Federal departments and agencies, groups charted by Congress such as the American Red Cross, State and local governments, volunteer groups, and national and international associations representing State and local governments.

Collection of Information

Title: Approval and Coordination of requirements to use NETC for Extracurricular Training Activities.

Type of Information Collection: Revision of an existing collection.

OMB Number: 1660-0029.

Form Numbers: FEMA Form 75-10, Request for Housing Accommodations, and FEMA Form 75-11, Request for Use of NETC Facility.

Abstract: Data will be obtained from special groups that request to use NETC facilities for extracurricular training activities. Extracurricular training is training over and above regularly scheduled training sessions of NFA and EMI. The policy of NETC is to accommodate other training activities on a space-available basis at the Emmitsburg campus. In order for NETC to approve and schedule the use of its facilities, information must be provided by special group organizations. A written, email or telephone request for use of NETC facilities is initially made to determine availability of the facilities. If space is available, the contact person for the special group must follow up by completing FEMA Form 75-11 to provide information on the number of participants, meals, and special requirements. The information is used to assign classrooms, schedule equipment, and arrange for food service. FEMA Form 75-10 is used to collect names and purchase order numbers of those who will require lodging at NETC.

Affected Public: Not-for-profit institutions; Federal Government; State, Local or Tribal Government; individuals or households; and business or other for-profit.

Estimated Total Annual Burden Hours: Ten.

Annual Burden Hours
Project/activity (survey, form(s), focus group, worksheet, etc.) | No. of respondents | Frequency of responses | Burden hours per respondent | Annual responses | Total annual burden hours
| (A) | (B) | (C) | (D) = (A×B) | (E) = (C×D)
75-10 | 60 | 1 | 5 min. or 0.08 | 60 | 5
75-11 | 60 | 1 | 5 min. or 0.08 | 60 | 5
Total | 120 |  | 10 minutes | 120 | 10

Estimated Cost: $15.80.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 17, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Merril Sollenberger, Special Groups and Visitors Coordinator, U.S. Fire Administration, telephone (301) 447-1179, facsimile number (301) 447-1052, or at e-mail address, merril.sollenberger@dhs.gov for additional information. You may contact the Records Management Branch for copies of the proposed collection of information at facsimile number (202) 646-3347 or e-mail address: FEMA-Information-Collections@dhs.gov.

Dated: June 11, 2007.
John A. Sharetts-Sullivan,
Chief, Records Management and Privacy, Office of Management Directorate, Information Resources Management Branch, Information Technology Services Division, Federal Emergency Management Agency, Department of Homeland Security.

[FR Doc. E7-11658 Filed 6-15-07; 8:45 am]

BILLING CODE 9110-12-P